DEPARTMENT OF COMMERCE

National Oceanic and Atmospheric Administration

50 CFR Part 622

[Docket No. 060525140-6140-01; I.D. 051106B]

RIN 0648-AT75

Fisheries of the Caribbean, Gulf of Mexico, and South Atlantic; Snapper-Grouper Fishery Off the Southern Atlantic States; Amendment 13C

AGENCY: National Marine Fisheries Service (NMFS), National Oceanic and Atmospheric Administration (NOAA), Commerce.

ACTION: Proposed rule; request for comments.

SUMMARY: NMFS issues this proposed rule to implement Amendment 13C to the Fishery Management Plan for the Snapper-Grouper Fishery of the South Atlantic Region (FMP), as prepared and submitted by the South Atlantic Fishery Management Council (Council). Amendment 13C proposes management measures to end overfishing of snowy grouper, golden tilefish, vermilion snapper, and black sea bass and measures to allow moderate increases in recreational and commercial harvest of red porgy consistent with the rebuilding program for that stock.

For the commercial fisheries, this proposed rule would establish restrictive quotas for snowy grouper, golden tilefish, vermilion snapper, and black sea bass and, after the quotas are met, prohibit all purchase and sale of the applicable species and restrict all harvest and possession to the applicable bag limit; establish restrictive trip limits for snowy grouper and golden tilefish; require at least 2-inch (5.1-cm) mesh in the back panel of black sea bass pots; require black sea bass pots to be removed from the water after the quota is reached; change the fishing year for black sea bass; increase the trip limit for red porgy; establish a red porgy quota that would allow a moderate increase in harvest; and, after the red porgy quota is reached, prohibit all purchase and sale and restrict all harvest and possession to the bag limit.

For the recreational fisheries, this proposed rule would reduce the bag limits for snowy grouper, golden tilefish, and black sea bass; increase the minimum size limit for vermilion snapper and black sea bass; change the fishing year for black sea bass; and increase the bag limit for red porgy.

The intended effects of this proposed rule are to eliminate or phase out overfishing of snowy grouper, golden tilefish, vermilion snapper, and black sea bass; and increase red porgy harvest consistent with an updated stock assessment and rebuilding plan to achieve optimum yield.

DATES: Written comments on this proposed rule must be received no later than 5 p.m., eastern time, on July 24, 2006.

ADDRESSES: You may submit comments on the proposed rule by any of the following methods:

• E-mail: 0648-AT75.Proposed@noaa.gov. Include in the subject line of the e-mail comment the following document identifier: 0648-AT75.

• Federal e-Rulemaking Portal: http://www.regulations.gov. Follow the instructions for submitting comments.

• Mail: John McGovern, Southeast Regional Office, NMFS, 263 13th Avenue South, St. Petersburg, FL 33701.

• Fax: 727-824-5308; Attention: John McGovern.

Copies of Amendment 13C may be obtained from the South Atlantic Fishery Management Council, One Southpark Circle, Suite 306, Charleston, SC 29407-4699; phone: 843-571-4366 or 866-SAFMC-10 (toll free); fax: 843-769-4520; e-mail: safmc@safmc.net. Amendment 13C includes a Final Environmental Impact Statement (FEIS), a Biological Assessment, an Initial Regulatory Flexibility Analysis (IRFA), a Regulatory Impact Review, and a Social Impact Assessment/Fishery Impact Statement.

Comments regarding the burden-hour estimates or other aspects of the collection-of-information requirements contained in this proposed rule may be submitted in writing to Jason Rueter at the Southeast Regional Office address above and to David Rostker, Office of Management and Budget (OMB), by e-mail at David_Rostker@omb.eop.gov, or by fax to 202-395-7285.

FOR FURTHER INFORMATION CONTACT: John McGovern, telephone: 727-824-5305; fax: 727-824-5308; e-mail: John.McGovern@noaa.gov.

SUPPLEMENTARY INFORMATION: The snapper-grouper fishery off the southern Atlantic states is managed under the FMP. The FMP was prepared by the Council and is implemented under the authority of the Magnuson-Stevens Fishery Conservation and Management Act (Magnuson-Stevens Act) by regulations at 50 CFR part 622. NMFS issues this proposed rule to implement Amendment 13C to the FMP.

Background

Recent stock assessments indicate that snowy grouper, golden tilefish, vermilion snapper, and black sea bass are experiencing overfishing. Overfishing means that the current rate of fishing mortality jeopardizes the capacity of the fishery for a species to produce its maximum sustainable yield on a continuing basis. Reductions in catch are needed to end overfishing.

Red porgy, however, are no longer experiencing overfishing, and the stock is rebuilding. Accordingly, catch can be increased to meet the annual allowable biological catch established in the rebuilding program for this species.

Provisions of This Proposed Rule

(Note that all poundages in this proposed rule are expressed in terms of gutted weight.)

Snowy Grouper

In the commercial fishery for snowy grouper, this proposed rule would:

Reduce, over a 3-year period, the commercial quota from 344,508 lb (156,266 kg), gutted weight, to 84,000 lb (38,102 kg), gutted weight. The quota would be reduced from 344,508 lb (156,266 kg) to 151,000 lb (68,492 kg) for year 1; to 118,000 lb (53,524 kg) for year 2; and to 84,000 lb (38,102 kg) for year 3 and thereafter. This quota represents a 69-percent reduction in harvest from average landings during 1999-2003 and would be expected to end overfishing in 2009.

Reduce, over a 3-year period, the trip limit from 300 lb (136 kg) to 100 lb (45.4 kg), until the quota is taken. The trip limit would be reduced from 300 lb (136 kg) to 275 lb (125 kg) for year 1; to 175 lb (79.4 kg) for year 2; and to 100 lb (45.4 kg) for year 3 and thereafter. Reduced trip limits are intended to extend the duration of the fishing season as long as practicable, consistent with the available quota.

In the recreational fishery for snowy grouper, this proposed rule would limit possession to one snowy grouper per person per day within the 5-grouper per person per day aggregate recreational bag limit. This bag limit would be expected to provide an incentive to avoid snowy grouper, thus contributing to reduced mortality of this species.

Golden Tilefish

In the commercial fishery for golden tilefish, this proposed rule would:

Reduce the commercial quota from 1,001,663 lb (454,347 kg), gutted weight, to 295,000 lb (133,810 kg), gutted weight. This quota is designed to reduce commercial catches by 35 percent from average landings recorded during 1999 to 2003 and, thereby, immediately end overfishing.

Establish a trip limit of 4,000 lb (1,814 kg) until 75 percent of the quota is taken and a trip limit of 300 lb (136 kg) after 75 percent of the quota is taken, provided that if 75 percent of the quota had not been taken on or before September 1, the trip limit would not be reduced. These measures would be expected to extend the fishery through the fishing year while still allowing fishermen to take the entire quota.

In the recreational fishery for golden tilefish, this proposed rule would limit possession to one per person per day within the 5-grouper per person per day aggregate recreational bag limit. This bag limit would be expected to provide an incentive to avoid golden tilefish, thus contributing to reduced mortality of this species.

Vermilion Snapper

In the commercial fishery for vermilion snapper, this proposed rule would:

Establish a fishing year quota of 1,100,000 lb (498,952 kg), gutted weight. This quota is equivalent to the average landings during 1999-2003, represents an 8-percent reduction of the average landings during 1999-2001, and closely approximates the commercial portion of the optimum yield. The quota would immediately end overfishing, prevent overfishing from occurring in the future, and eliminate the occasional spikes in landings.

In the recreational fishery for vermilion snapper, this proposed rule would increase the minimum size limit from 11 inches (27.9 cm), total length (TL), to 12 inches (30.5 cm), TL. This measure is intended to reduce the mortality rate of vermilion snapper taken in the recreational fishery and would aid in enforceability of the minimum size limit by making the limit the same as the existing limit in the commercial fishery. However, NMFS is concerned that the release mortality rates for vermilion snapper could be higher than previously estimated; therefore, it is possible a large proportion of discarded fish would die. Further, because larger vermilion snapper occur in deeper water, the adverse effect of discard mortality could be even more severe for the larger fish. NMFS is specifically inviting public comment on the proposed increase in the vermilion snapper size limit.

Black Sea Bass

In the commercial fishery for black sea bass, this proposed rule would:

Change the fishing year from the calendar year to June 1 through May 31, as of the effective date of the final rule that would implement Amendment 13C. Peak spawning for black sea bass occurs during March through May. If the commercial quota were reached and the fishery closed before the end of the new fishing year, fishing pressure on spawners would be reduced, thus contributing to recruitment success of the new year class.

Establish fishing year quotas of 477,000 lb (216,364 kg), gutted weight, for the fishing year that commences June 1, 2006; 423,000 lb (191,870 kg) for the fishing year that commences June 1, 2007; and 309,000 lb (140,160 kg) for the fishing year that commences June 1, 2008, and for subsequent fishing years. The ultimate quota of 309,000 lb (140,160 kg), gutted weight, represents a 35-percent reduction of the average commercial landings during 2001-2003 and would end overfishing during 2009.

Require the use of at least 2-inch (5.1-cm) mesh for the entire back panel, i.e., the side of the pot opposite the pot entrance, of a sea bass pot. To allow time for fishermen to comply with this gear change, this measure would become effective 6 months after the publication of the final rule that would implement Amendment 13C. This measure would significantly increase the ability of black sea bass that do not meet the minimum size limit to escape and, thus, would reduce the mortality of such trap-caught fish.

Require removal of sea bass pots from the water when the commercial quota has been taken. The Administrator, Southeast Region, NMFS, (RA) would be authorized, based on extenuating circumstances, to grant up to a 10-day grace period for the removal of traps after the commercial quota has been taken. In addition, a person may request that the RA grant such a grace period based on severe personal hardship, such as equipment failure or the vessel operator's health, by providing a letter outlining the nature and circumstances of the severe personal hardship to be received by the RA no later than the effective date of the closure. The RA would advise the requester of the approval or disapproval of the request. This measure requiring timely removal of sea bass pots would eliminate the mortality of black sea bass associated with the use of pots after the quota is taken.

In the recreational fishery for black sea bass, this proposed rule would:

Change the fishing year from the calendar year to June 1 through May 31, as of the effective date of the final rule that would implement Amendment 13C. This measure would provide a uniform fishing year for both the commercial and recreational fisheries.

Increase the minimum size limit from 10 inches (25.4 cm), TL, to 11 inches (27.9 cm), TL, through May 31, 2007, and to 12 inches (30.5 cm), TL, commencing June 1, 2007. The increased minimum size limits would allow a greater proportion of fish to spawn.

Reduce the daily bag limit from 20 to 15 per person per day. The decrease in bag limit would not initially reduce harvest as most fishermen are not catching the limit. However, a reduced bag limit would help to constrain harvest as the population rebuilds and the number of recreational fishermen increases.

The Council believes these measures would end overfishing for black sea bass in the recreational fishery as soon as practicable.

Red Porgy

In the commercial fishery for red porgy, this proposed rule would:

Establish a fishing year quota of 127,000 lb (57,606 kg), gutted weight, and change the May through December trip limit from 50 lb (22.7 kg) to 120 red porgy. (The January through April seasonal harvest limitations would remain unchanged.) These measures would be expected to increase the total catch by 109 percent from average landings recorded from 1999 to 2003 while ensuring continued progress in the current rebuilding program.

In the recreational fishery for red porgy, this proposed rule would increase the daily bag limit from 1 to 3 red porgy per day and adjust the possession limit accordingly. This measure would be expected to allow an increase in the recreational catch while ensuring continued progress in the current rebuilding program.

Measures Applicable to Snowy Grouper, Golden Tilefish, Vermilion Snapper, Black Sea Bass, and Red Porgy

For all of these species, this proposed rule would:

Limit the harvest and possession of the applicable species to the recreational bag limit for the remainder of the fishing year after the applicable quota is taken. This measure would enhance enforceability of the regulations because, after a quota closure, the same limit would apply to both commercial and recreational fisheries.

Prohibit the purchase and sale of the applicable species for the remainder of the fishing year after the applicable quota is taken. This measure would enhance enforceability of the quota provisions.

Additional Measures in Amendment 13C

In addition to the measures discussed above, Amendment 13C would establish total allowable catches (TACs) for black sea bass comprised of commercial quotas and recreational allocations as follows (all weights are gutted weights):

Fishing Year Commencing: | TAC | Commercial Quota | Recreational Allocation
June 1, 2006 | 1,110,000 lb (503,488 kg) | 477,000 lb (216,364 kg) | 633,000 lb (287,124 kg)
June 1, 2007 | 983,000 lb (445,882 kg) | 423,000 lb (191,870 kg) | 560,000 lb (254,012 kg)
June 1, 2008, and Subsequent Yrs. | 718,000 lb (325,679 kg) | 309,000 lb (140,160 kg) | 409,000 lb (185,519 kg)

TAC and its components would be used by fishery managers in determining when overfishing is occurring.

Availability of Amendment 13C

Additional background and rationale for the measures discussed above are contained in Amendment 13C. The availability of Amendment 13C was announced in the Federal Register on May 18, 2006 (71 FR 28841). Written comments on Amendment 13C must be received by July 17, 2006. All comments received on Amendment 13C or on this proposed rule during their respective comment periods will be addressed in the preamble to the final rule.

Classification

At this time, NMFS has not determined that Amendment 13C, which this proposed rule would implement, is consistent with the national standards of the Magnuson-Stevens Act and other applicable laws. NMFS, in making that determination, will take into account the data, views, and comments received during the comment periods on Amendment 13C and this proposed rule.

This proposed rule has been determined to be not significant for purposes of Executive Order 12866.

The Council prepared an FEIS for Amendment 13C; a notice of availability was published on May 26, 2006 (71 FR 30399).

NMFS prepared an IRFA, as required by section 603 of the Regulatory Flexibility Act. The IRFA describes the economic impact this proposed rule, if adopted, would have on small entities. A description of the action, why it is being considered, and the legal basis for this action are contained at the beginning of this section in the preamble and in the SUMMARY section of the preamble. A copy of the full analysis is available from the Council office (see ADDRESSES). A summary of the analysis follows.

This proposed rule would reduce the commercial quotas and establish trip limits for snowy grouper and golden tilefish, establish commercial quotas for vermilion snapper and black sea bass, establish a back-panel mesh size requirement for black sea bass pots, change the fishing year for the commercial and recreational black sea bass fisheries, establish a commercial quota and increase the trip limit for red porgy, reduce the recreational bag limit for snowy grouper and golden tilefish, increase the recreational minimum size limits of vermilion snapper and black sea bass, and increase the recreational bag limit of red porgy. The purpose of the proposed rule is to end overfishing for snowy grouper, golden tilefish, vermilion snapper, and black sea bass, and allow for an increase in the harvest of red porgy consistent with the rebuilding schedule for this species. The Magnuson-Stevens Act provides the statutory basis for the proposed rule.

No duplicative, overlapping, or conflicting Federal rules have been identified. The proposed rule would not impose any reporting or recordkeeping requirements. However, sea bass pot fishermen who encounter personal hardship and are unable to meet the proposed pot removal requirements may request through application to the Regional Administrator, NMFS Southeast Region (RA), a grace period of up to 10 days. Completion of this application is not expected to require special skills, recordkeeping, or substantial allocation of time, which should not exceed 30 minutes. No fees or costs other than the time spent and postage are associated with this application.

Two general classes of small business entities would be directly affected by the proposed rule, commercial fishing vessels and for-hire fishing vessels (charterboats and headboats). The Small Business Administration defines a small entity in the commercial fishing sector as a firm that is independently owned and operated, is not dominant in its field of operation, and has annual gross receipts not in excess of $3.5 million. For a for-hire business, the appropriate revenue benchmark is $6.0 million.

An analysis of the gross revenue per vessel for commercial vessels that harvest species addressed in this action was conducted using data from the NMFS Southeast logbook program. These vessels also operate in other federally permitted fisheries, some harvests of which are also reported in the Southeast logbook program. All harvests (snapper-grouper and non-snapper-grouper species) and associated gross revenues encompassed by the Southeast logbook program were summarized. During the period 2001 to 2004, average annual gross revenue per vessel did not exceed $14,000, and total annual gross revenue for an individual vessel did not exceed approximately $247,000. It should be noted that these vessels may also operate in the for-hire sector and other commercial fisheries whose landings are not covered by the Southeast logbook. Thus, this analysis may underestimate the total gross revenue for some vessels, though any underestimation is not believed to be substantial.

A comprehensive study of vessels that participated in the South Atlantic snapper-grouper fishery in 1994 provided estimates of total vessel revenue from all fishing activities. Average net income (1994 dollars) from sampled boats, in declining order, was $83,224 for boats that primarily used bottom longlines in the northern area (St. Augustine, FL, northward); $23,075 for boats that primarily used black sea bass pots in the northern area, $15,563 for boats that primarily used bottom longlines in the southern area (south of St. Augustine, FL); $11,649 for boats that primarily used vertical lines in the southern area; and $8,307 for boats that primarily used vertical lines in the northern area. Overall, boats in the northern area averaged $14,143 in net income based on average revenues of $48,702, while boats in the southern area averaged $12,388 net income based on average revenues of $39,745.

Although some fleet activity may exist in the snapper-grouper fishery, the extent of such has not been determined. Thus, all vessels are assumed to be unique business entities. Given the gross revenue profile captured by 2001-2004 Southeast logbook program data and the findings of the 1994 survey, it is assumed that all vessels represent small business entities.

Charterboats are defined as boats for hire carrying 6 or fewer passengers that charge a fee to rent the entire boat. Headboats are for-hire vessels with a larger passenger capacity that charge a fee per individual angler. Using 1998 survey data, two methods were used to determine the average gross revenue per vessel for the for-hire sector. The first method summarized the survey response to total gross revenue provided by the vessel owner. The second method calculated gross revenue based on the survey response to the average price per trip/passenger and the average number of trips/passengers taken/carried per year. The second method consistently generated higher estimates of average gross revenues, suggesting either over-reporting of the individual data elements utilized in the calculated method or under-reporting of gross revenues. The analysis of the expected impacts of the proposed action, however, assumed the alternative estimation methods generated an acceptable range of the true average gross revenues for this sector. For the charterboat sector, these results (1998 dollars) are as follows: $51,000 to $69,268 for Florida Atlantic coast vessels; $60,135 to $73,365 for North Carolina vessels; $26,304 to $32,091 for South Carolina vessels; and $56,551 to $68,992 for Georgia vessels. For the headboat sector, the results are: $140,714 to $299,551 for Florida (east and west coast) vessels, and $123,000 to $261,990 for vessels in the other South Atlantic states. Similar to the commercial harvest sector, some fleet activity may exist within the for-hire sector. The magnitude and identity of such is unknown, however, and all vessels are assumed to represent unique business entities. Given the gross revenue profiles generated, it is assumed that all for-hire operations potentially affected by the proposed rule are small business entities.

During 2004, 1,066 commercial vessels were permitted to operate in the snapper-grouper fishery. Not all permitted vessels operate every year, and some vessels are believed to obtain permits for either speculative purposes or as insurance against further restriction in commercial fisheries. Nevertheless, the total number of permitted vessels is considered an upper bound on the potential universe of vessels in the snapper-grouper fishery. The lower bound is assumed to be the number of vessels active in 2003—906 vessels. Thus, the range of vessels assumed to potentially operate in the commercial snapper-grouper fishery is 906 to 1,066. A subset of these vessels harvest the five species addressed in this action. From 2001 through 2004, the number of vessels that harvested any of the species addressed in this action ranged from 396 to 459 and are assumed to be the universe of potentially affected entities in the commercial harvest sector. This represents 37 percent (396/1,066) to 51 percent (459/906) of the entire universe of entities potentially active in the snapper-grouper fishery. Thus, it is determined that a substantial number of small entities in the commercial harvest sector would be affected by the proposed measures.

For the for-hire sector, 1,594 snapper-grouper for-hire permits were issued to vessels in the southern Atlantic states in 2004. The for-hire fishery operates as an open access fishery, and not all permitted vessels are necessarily active in the fishery. Some vessel owners purchase open access permits as insurance for uncertainties in the fisheries in which they currently operate. A 1999 study of the Southeast for-hire industry estimated that a total of 1,080 charter vessels and 96 headboats supplied for-hire services in Florida (east and west coast) and the rest of the South Atlantic in 1997.

Data on the number of for-hire vessels that actually harvest the species addressed by this action are not available. However, harvest data for 1999-2003 indicate that most (70 percent) of the headboat harvest in the South Atlantic is comprised of snapper-grouper species, and approximately 36 percent of total snapper-grouper headboat harvest is comprised of the species addressed in this action. Therefore, it is assumed that all South Atlantic headboats harvest or target snapper-grouper species, and it is likely that a substantial number of headboats will be affected by measures in this proposed rule.

Data on the charter sector also imply that a substantial number of charterboat entities will be affected by the proposed rule. Based on 2003 data, snapper-grouper species are caught on 28 percent of all charter trips, while 14 percent of the charter sector's snapper-grouper harvest is comprised of species addressed by this action.

The outcome of “significant economic impact” can be ascertained by examining two issues: disproportionality and profitability. The disproportionality question is, do the regulations place a substantial number of small entities at a significant competitive disadvantage to large entities? All vessel operations affected by the proposed action are considered small entities so the issue of disproportionality does not arise in the present case. However, among the entities in the commercial harvest sector, there is a high degree of diversity in terms of primary gear employed and level of engagement in the snapper-grouper fishery. The proposed snowy grouper and golden tilefish actions would have a proportionally higher negative short-term impact on vessels which employ longline gear or fish off south and central Florida. The proposed vermilion snapper quota would have a relatively larger negative impact on vessels that employ hook-and-line gear or fish off Georgia and Northeast Florida. The proposed black sea bass management measures would have a proportionally higher negative impact on vessels that utilize black sea bass pots in North Carolina. Although the proposed red porgy management measures would increase the allowable harvest and revenues in the commercial fishery, most of the increase in revenue would be realized by vessels that employ hook-and-line gear.

The short-term impacts on the for-hire sector from the proposed measures for snowy grouper and golden tilefish are expected to be minimal. In contrast, for-hire vessels would bear substantially larger short-term negative impacts associated with implementation of the proposed regulations for vermilion snapper and black sea bass. Assessment of the impacts on for-hire vessels is limited to expected reductions in harvest because the econometric models to predict changes in for-hire trips and subsequent changes in revenues as a result of the proposed regulations are not available. The short-term reduction in harvest of these two species is expected to be proportionally greater in the headboat sector than the charterboat or private boat sectors. For the vermilion snapper fishery, the proposed regulation would reduce vermilion snapper harvests by 21 percent in the private/charter sector compared to 30 percent in the headboat sector. Similarly, the proposed regulations for black sea bass are expected to reduce black sea bass harvests by 27 percent (year 1) in the charter/private sector compared to 41 percent (year 1) in the headboat sector.

The proposed red porgy regulation is expected to result in an increase in recreational harvest and associated benefits and is projected to increase red porgy harvest in the headboat sector by 36 percent and by 21 percent in the charter/private recreational fishery sector.

The profitability question is, do the regulations significantly reduce profit for a substantial number of small entities? In the recreational fishery, for-hire business entities would be expected to lose revenues and profits as a result of trip cancellation by clients who determine that the proposed measures will significantly affect the quality of the fishing experience. As previously discussed, these losses cannot be estimated at this time due to data limitations. However, it is reasonable to assume that the greater the reduction in harvest, the higher the likelihood of trip cancellation and potential revenue loss. Even though it is not possible to calculate the change in profitability expected to arise from the proposed rule, given the dependence of the for-hire sector on the harvest of vermilion snapper and black sea bass, it is reasonable to assume that the expected harvest reductions may result in a substantial adverse impact on the profitability of affected for-hire entities. The estimated reduction in consumer surplus for anglers that participate in the headboat sector (approximately $577,000) as a result of the proposed regulations in these two fisheries is approximately 19 percent of total estimated consumer surplus generated from the snapper-grouper fishery for this sector (approximately $2.978 million). Similar analysis is not possible for the charter sector because this sector was combined with the private recreational sector in the assessment results. Although it is inappropriate to translate these results one-for-one into expected trip cancellations, they demonstrate the potential magnitude of trip cancellation and potential business revenue and profit changes.

In the commercial harvest sector, data from 2001 through 2004 were used to examine the profitability of vessels that are likely to be affected by the proposed measures for black sea bass, vermilion snapper, golden tilefish, and snowy grouper. This analysis encompassed an average of 408 vessels per year. Because the analysis for red porgy was conducted using data during a different time period (1995 through 1998), the revenue increase associated with this measure was not included in the assessment of the short-term cumulative effects of the proposed rule. Instead, the estimated increase in net cash flow in the commercial harvest sector due to red porgy regulations is presented separately.

Net vessel revenues (gross revenue minus trip costs and opportunity cost of labor) were estimated from landings reported to the Southeast logbook program. Over the period 2001 to 2004, a large proportion (67 percent) of the entities included in this analysis earned less than $10,001 per year. Also, a number of vessels appeared to operate at a loss or break-even condition. These results could be an indication that a high proportion of the commercial fishermen in the Southeast are part-time fishermen who supplement their household income by other employment. Another explanation of the results is that not all of the fishing revenues for these vessels are reported in the Southeast logbooks and/or the vessels are engaged in for-hire activities. Revenues and costs associated with commercial fishing on trips that did not harvest any of the species covered by this proposed action, commercial fishing not captured by the Southeast logbook program, and for-hire activities are not reflected in the results contained in the following analyses. As such, total and net revenues for entire fishing business operations are unknown, and the following analysis likely overstates total and average individual impacts on the affected entities. The magnitude of this overstatement, however, cannot be determined.

During the first year of implementation, the proposed harvest restrictions for golden tilefish, snowy grouper, vermilion snapper, and black sea bass are expected to result in a total net short-term annual loss of $0.735 million to the commercial harvest sector, or 12 percent of the total net revenue for trips that harvested any of the affected species. The proposed rule would implement a stepped-down approach on harvest restrictions for snowy grouper and black sea bass over a 3-year period, and the cumulative effects of the proposed measures for these four species will increase to $1.085 million in the third year.

When evaluated at the individual vessel/entity level, the average annual loss per affected entity associated with the proposed rule in the first year is expected to vary between $760 and $3,261, and the maximum net loss per boat is expected to vary between $26,533 and $76,390 per year. In comparison, the preferred alternatives taken to public hearings would have resulted in an average annual loss between $1,863 and $5,659 and a maximum net loss per boat between $39,159 and $77,854 per year.

On average, 219 vessels (54 percent of potentially affected entities) would not be expected to incur losses under the proposed rule. In contrast, an average of 92 vessels (23 percent of potentially affected entities) would not have sustained net revenue losses if the preferred alternatives in the public hearing draft were implemented.

Revenue loss per vessel was classified as Range I ($1-$500), Range II ($501 to $10,000), or Range III (greater than $10,000). The short-term economic effects of the proposed action would not be distributed evenly across all affected entities. During the first year of implementation of the proposed rule, it is expected that 21 vessels would sustain Range III losses (an average of $22,764 per vessel) and collectively account for 62 percent of the total net loss in the commercial harvest sector. Conversely, 82 entities would sustain Range I losses ($102 per vessel), and 86 entities are expected to sustain Range II losses ($3,165 per vessel) and account for 37 percent of the total net loss in the commercial harvest sector.

Vessel profitability is expected to decrease by more than 10 percent for 86 vessels (21 percent of the 408 potentially affected entities) during the first year of implementation of this proposed rule. This compares to 140 vessels (34 percent of all 408 potentially affected entities) expected to experience a decrease in profitability of more than 10 percent under the preferred alternatives taken to public hearing.

The proposed rule is expected to result in a loss in net revenue of more than 10 percent for the 20 vessels that experience a Range III reduction. Also, 80 percent of all affected entities (16 vessels) that experience a Range III decrease in net revenue are expected to realize more than a 25- percent reduction in profitability. In contrast, profitability is expected to decrease by more than 10 percent for only 24 percent (7 vessels) of all vessels that are likely to sustain Range I losses.

For red porgy, the proposed rule is expected to increase short-term revenue to the commercial harvest sector by $0.07 million annually. The estimated increase in earnings of 32 vessels (10 percent of the 317 vessels expected to be affected by the red porgy action) are expected to exceed $2,500 per vessel annually. The estimated average net revenue increase per vessel within the red porgy fishery is $221 ($70,000/317) per year.

In summary, the proposed rule is expected to result in a 12- percent loss in short-term net revenue to the commercial harvest sector. At least 26 percent of potentially affected entities are expected to sustain more than $501 losses in net revenue, and 31 percent of all affected entities (13 percent of all potentially affected entities) are expected to experience more than a 25- percent decrease in profitability during the first year of implementation of the proposed action. The reductions in profitability are expected to increase through the third year as total target harvest reductions are achieved. Thus, both the magnitude and distributional effects of the reduction in net revenues could increase over this period of time. However, the delayed implementation of the full harvest reductions could allow operational adaptation by the affected entities, resulting in smaller total impacts and smaller distributional effects than those discussed above. In addition to the impacts described for the commercial finfish harvest sector, certain segments of the for-hire sector are expected to experience substantial reductions in allowable harvests of certain species as a result of the proposed rule and may experience commensurate reductions in revenues if unable to maintain service demand through the substitution of other species.

Three alternatives, including the status quo and the preferred alternative, were considered for the proposed action to establish management measures for the commercial fishery consistent with ending overfishing in the snowy grouper fishery. The status quo would allow continued overfishing and would, therefore, not achieve the Council's objective.

The third alternative would have achieved the full commercial quota reduction in the first year of implementation, rather than the step-down provision of the proposed action and, as such, would result in greater short-term adverse economic impacts than the proposed action.

Three alternatives, including the status quo and the preferred alternative, were considered for the proposed action to establish management measures for the recreational fishery consistent with ending overfishing in the snowy grouper fishery. The status quo would have allowed continued overfishing and would, therefore, not achieve the Council's objective.

Due to the low catch per unit effort in the recreational fishery, the third alternative would not have resulted in sufficient harvest reduction to achieve the goal of ending overfishing. Therefore, although this alternative would have resulted in lower short-term adverse economic impacts to the recreational sector, this alternative would not achieve the Council's objective.

Three alternatives, including the status quo and two quota alternatives, one of which was the preferred alternative, were considered for the proposed action to establish management measures for the commercial fishery consistent with ending overfishing in the golden tilefish fishery. The status quo would allow continued overfishing and would, therefore, not achieve the Council's objective.

For each quota alternative, five step-down trip limit alternatives, including the status quo, and two step-down trigger date control options, including the status quo no control trigger date, were considered. Under the quota specified by the proposed action, the trip limit alternatives encompassed either a lower trip limit, 3,000 lb (1,361 kg), than the proposed action or a less restrictive harvest trigger, 85 percent of the quota, for the step down. The short-term adverse economic impacts of all trip limit alternative combinations that include the 75-percent harvest trigger would be expected to be approximately equal to or greater than those of the proposed action. The trip limit alternative combinations that include the 85-percent harvest trigger would generate lower short-term adverse economic impacts than the proposed action. However, this higher trigger would result in a shorter fishing season, on average, than the proposed action. Although these impacts were not able to be quantified, shorter fishing seasons are recognized to result in adverse price effects, market disruptions, and disruptions of business operation. Therefore, the expected longer season projected under the proposed action was determined to best meet the Council's objectives.

Under the alternative quota specification, the expected adverse short-term economic impacts of seven of the ten trip limit and trigger date combinations are projected to be less than those of the proposed action due to the 3-year progression to the target quota of 295,000 lb (133,810 kg), which is implemented in the third year under this alternative, resulting in larger allowable harvests the first 2 years. This alternative, however, would not end overfishing as soon as practicable and would therefore not meet the Council's objective.

Four alternatives, including the status quo and the preferred alternative, were considered for the proposed action to establish management measures for the recreational fishery consistent with ending overfishing in the golden tilefish fishery. The status quo would allow continued overfishing and would, therefore, not achieve the Council's objective.

Due to the low catch per unit effort in the recreational fishery, the third alternative would not have resulted in sufficient harvest reduction to achieve the goal of ending overfishing. Therefore, although this alternative would have resulted in lower short-term adverse economic impacts to the recreational sector, this alternative would not achieve the Council's objective.

The fourth alternative would impose greater restrictions on recreational golden tilefish harvest, resulting in greater adverse economic impacts than the proposed action.

Ten alternatives, including the status quo and the preferred alternative, were considered for the proposed action to establish management measures for the commercial fishery consistent with ending overfishing in the vermilion snapper fishery. The status quo would allow continued overfishing and would, therefore, not achieve the Council's objective.

Eight alternatives would have established lower commercial quotas (either 757,000 or 821,000 lb (343,369 or 372,399 kg) gutted weight) than the preferred alternative, in addition to alternative minimum size and trip limits. These quotas represent reductions in allowable harvest greater than is necessary to end overfishing of this resource. Further, each of the eight alternatives would result in greater adverse economic impacts than the proposed action.

Nine alternatives, including the status quo and the preferred alternative, were considered for the proposed action to establish management measures for the recreational fishery consistent with ending overfishing in the vermilion snapper fishery. The status quo would allow continued overfishing and would, therefore, not achieve the Council's objective.

In addition to the minimum size limit increase of the proposed action, one alternative to the proposed action would reduce the daily bag limit to six fish. Although this alternative would increase the likelihood of ending overfishing relative to the proposed action, this alternative would result in greater adverse economic impacts than the proposed action.

A similar alternative would, in addition to the minimum size limit increase, impose lower, but differential, bag limits on the for-hire and recreational sectors. Similar to the alternative discussed above, although this alternative would increase the likelihood of ending overfishing relative to the proposed action, this alternative would result in greater adverse economic impacts than the proposed action.

Two alternatives to the proposed vermilion snapper recreational action would maintain the current minimum size limit but impose fishery closures for different periods: October through December and January through February. Both alternatives are projected to result in lower adverse economic impacts than the proposed action. However, these estimates do not incorporate additional potential adverse impacts associated with potential fishing trip cancellation as a result of the closures. These impacts cannot be determined at this time. The addition of these impacts to these alternatives, however, may result in greater total adverse impacts compared to the proposed action. Further, although the proposed action may not end overfishing, depending on the level of the current vermilion snapper biomass, these alternatives are not expected to achieve as much progress toward the goal of ending overfishing as the proposed action and, as such, do not meet the Council's objectives.

Two alternatives to the proposed recreational vermilion snapper action would retain the closures specified in the alternatives discussed above and add reductions in the bag limit to six fish and five fish, respectively. Although each of these alternatives would be expected to achieve greater progress toward ending overfishing relative to the proposed action, each would also result in greater adverse economic impacts than the proposed action.

The ninth and final alternative to the proposed recreational vermilion snapper action would include the minimum size limit increase in the proposed action and close the fishery from January through February. This alternative would achieve greater harvest reductions than the proposed action, thereby accomplishing more progress toward ending overfishing. This action would also, however, result in greater adverse economic impacts than the proposed action. The Council determined that, given the uncertainty associated with the stock assessment for vermilion snapper, the harvest reductions achieved by the proposed action, while not achieving an immediate end to overfishing, would be sufficient until further knowledge is gained through the next stock assessment.

Eight alternatives, including the status quo and the preferred alternative, were considered for the proposed action to establish management measures for the commercial fishery consistent with ending overfishing in the black sea bass fishery. The status quo would allow continued overfishing and would, therefore, not achieve the Council's objective.

The third alternative would have established a lower quota than that specified for the first 2 years under the proposed action, but 10 percent greater than the third year quota. Thus, this alternative would be expected to result in greater adverse economic impacts than the proposed action in the first 2 years, but slightly lesser impacts in subsequent years. Although the effects of such could not be quantified, the Council determined that a more gradual progression to a lower quota would support greater adaptive behavior by participants and result in lower total adverse economic impacts.

The fourth alternative would have established the lower third- year quota target of the proposed action immediately and also would have established an increased minimum size limit and trip limits. This alternative would result in greater adverse economic impacts than the proposed action.

The fifth alternative would have established a quota equal to that specified in the second year of the proposed action and an increased minimum size limit. This alternative would result in greater adverse economic impacts in the first 2 years than the proposed action, but less impacts thereafter. This alternative would not, however, achieve the necessary harvest reductions to meet the Council's objective to end overfishing.

The sixth alternative would add trip limits and an increase in the minimum size limit to the measures contained in the proposed action. Because this alternative would be more restrictive than the proposed action, this alternative would result in greater adverse economic impacts.

The seventh alternative would not impose a quota but would, instead, in addition to the mesh size specification of the proposed action, limit harvest and/or possession of black sea bass to the recreational bag limit. This alternative would result in greater adverse economic impacts than the proposed action.

The eighth and final alternative to the proposed action on the commercial black sea bass fishery would impose the mesh size specification of the proposed action and increase the minimum size limit. Although this alternative would result in less adverse economic impacts than the proposed action, this alternative would not achieve the necessary harvest reductions to meet the Council's objective of ending overfishing.

Eight alternatives, including the status quo and the preferred alternative, were considered for the proposed action to establish management measures for the recreational fishery consistent with ending overfishing in the black sea bass fishery. The status quo would allow continued overfishing and would, therefore, not achieve the Council's objective.

The third alternative to the proposed action would immediately establish a lower allocation than the first 2 years of the proposed action, but greater than that of the third and subsequent years, as well as an immediate increase in the minimum size limit matching the specification in the second year of the proposed action. The bag limit specifications of both alternatives are identical. Since this alternative is more aggressive in achieving desired reductions, the short-term adverse impacts are greater than those of the proposed action. Further, the progressive achievement of the target restrictions in the proposed action allow for more gradual adaptation to the new restrictions and the changes to the business environment they may engender.

The fourth alternative to the proposed action would immediately establish the third year allocation of the proposed action, forgo the second increase in the minimum size limit, and reduce the bag limit to four fish per person per day. Although the quantifiable adverse economic impacts of this alternative are lower than those of the proposed action, these impacts do not account for additional potential adverse impacts associated with trip cancellation due to the severe reduction (80 percent) in the daily bag limit. These additional adverse impacts are expected to result in this alternative having a greater adverse economic impact than the proposed action.

The fifth alternative would establish a recreational allocation equal to that of the second year under the proposed action and limit the increase in the minimum size limit to 1 inch (2.5 cm). Although this alternative would result in lower adverse economic impacts than the proposed action, the resultant harvest reductions would be insufficient to meet the Council's objective.

The sixth alternative would mimic the allocation specifications of the proposed action but would limit the minimum size limit increase to 1 inch (2.5 cm) while reducing the daily bag limit to four fish. Similar to the discussion of the second alternative above, the analytical results do not capture the full potential impacts associated with the bag limit reduction, and this alternative is expected to result in greater adverse economic impact than the proposed action.

The seventh alternative would simply reduce the bag limit to 10 fish per person per day. This alternative would not achieve the necessary harvest reductions to meet the Council's objective.

The eighth and final alternative to the proposed action for the recreational black sea bass fishery would simply increase the minimum size limit 1 inch (2.5 cm). This alternative would not achieve the necessary harvest reductions to meet the Council's objective.

Five alternatives, including the status quo and the preferred alternative, were considered for the proposed action to establish management measures to increase the allowable harvest in the recreational and commercial fisheries for red porgy. The status quo would allow continued overfishing and would, therefore, not achieve the Council's objective.

The third alternative would be identical to the proposed action except for allowing a smaller recreational bag limit. This alternative would result in lower economic benefits than the proposed action.

The fourth alternative similarly imposes the smaller recreational bag limit and reduces the number of fish that can be harvested per commercial trip relative to the proposed action, while allowing the limit to remain in effect year-round rather than just May through December. Although this alternative would result in slightly greater benefits to the commercial sector, the benefits to the recreational sector would be less than those of the proposed action, and the Council determined that overall the proposed action would be more effective in allowing increased benefits relative to the status quo while protecting against harvest overages.

The fifth and final alternative to the proposed action on the red porgy fishery would implement the commercial trip limits of the second alternative discussed above, while allowing the higher daily recreational bag limit of the proposed action. Although this alternative would result in the higher economic benefits associated with the more liberal increases for both harvest sectors, the Council determined that the more conservative harvest potential associated with the commercial trip limits of the proposed action would be more effective in insuring that harvest overages do not occur.

This proposed rule contains a collection-of-information requirement subject to review and approval by OMB under the Paperwork Reduction Act (PRA)—namely, a person requesting an exemption (i.e., a grace period) to the requirement for sea bass pot removal would be required to submit a letter of request to the RA. This requirement has been submitted to OMB for approval. The public reporting burden per response for this collection of information is estimated to average 10 minutes. This estimate of the public reporting burden includes the time for reviewing instructions, searching existing data sources, gathering and maintaining the data needed, and completing and reviewing the collections of information. Public comment is sought regarding: Whether this proposed collection of information is necessary for the proper performance of the functions of the agency, including whether the information will have practical utility; the accuracy of the burden estimate; ways to enhance the quality, utility, and clarity of the information to be collected; and ways to minimize the burden of the collection of information, including through the use of automated collection techniques or other forms of information technology. Send comments on these or any other aspects of the collection of information to NMFS and to OMB (see ADDRESSES), and e-mail to David_Rostker@omb.eop.gov or fax to 202-395-7285.

Notwithstanding any other provision of law, no person is required to respond to, nor shall a person be subject to a penalty for failure to comply with, a collection of information subject to the requirements of the PRA, unless that collection of information displays a currently valid OMB control number.

List of Subjects in 50 CFR Part 622

Fisheries, Fishing, Puerto Rico, Reporting and recordkeeping requirements, Virgin Islands.

Dated: June 5, 2006.
James W. Balsiger,
Acting Deputy Assistant Administrator for Regulatory Programs, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.30, paragraph (e) is added to read as follows:

§ 622.30 Fishing years.

* * * * *

(e) South Atlantic black sea bass—June 1 through May 31.

3. In § 622.36, paragraph (b)(5) is revised to read as follows:

§ 622.36 Atlantic EEZ seasonal and/or area closures.

* * * * *

(b) * * *

(5) Red porgy. During January, February, March, and April, the harvest or possession of red porgy in or from the South Atlantic EEZ is limited to three per person per day or three per person per trip, whichever is more restrictive. In addition, this limitation is applicable in the South Atlantic on board a vessel for which a valid Federal commercial or charter vessel/headboat permit for South Atlantic snapper-grouper has been issued without regard to where such red porgy were harvested. Such red porgy are subject to the prohibition on sale or purchase, as specified in § 622.45(d)(5).

4. In § 622.37, paragraphs (e)(1)(ii) and (e)(3)(i) are revised to read as follows:

§ 622.37 Size limits.

* * * * *

(e) * * *

(1) * * *

(ii) Vermilion snapper—12 inches (30.5 cm), TL.

* * * * *

(3) * * *

(i) Black sea bass. (A) For a fish taken by a person subject to the bag limit specified in § 622.39(d)(1)(vii):

(1) Through May 31, 2007—11 inches (27.9 cm), TL; and

(2) On and after June 1, 2007—12 inches (30.5 cm), TL.

(B) For a fish taken by a person not subject to the bag limit in § 622.39(d)(1)—10 inches (25.4 cm), TL.

* * * * *

5. In § 622.39, paragraphs (d)(1)(ii), (d)(1)(vi), (d)(1)(vii), and (d)(2)(ii) are revised to read as follows:

§ 622.39 Bag and possession limits.

* * * * *

(d) * * *

(1) * * *

(ii) Groupers and tilefish, combined—5. However, within the 5-fish aggregate bag limit:

(A) No more than two fish may be gag or black grouper, combined;

(B) No more than one fish may be a snowy grouper;

(C) No more than one fish may be a golden tilefish; and

(D) No goliath grouper or Nassau grouper may be retained.

* * * * *

(vi) Red porgy—3.

(vii) Black sea bass—15.

* * * * *

(2) * * *

(ii) A person aboard a vessel may not possess red porgy in or from the EEZ in excess of three per day or three per trip, whichever is more restrictive.

* * * * *

6. In § 622.40, paragraphs (c)(3)(i) and (d)(2) are revised to read as follows:

§ 622.40 Limitations on traps and pots.

* * * * *

(c) * * *

(3) * * *

(i) A sea bass pot used or possessed in the South Atlantic EEZ must have mesh sizes as follows (based on centerline measurements between opposite, parallel wires or netting strands):

(A) For sides of the pot other than the back panel:

(1) Hexagonal mesh (chicken wire)—at least 1.5 inches (3.8 cm) between the wrapped sides;

(2) Square mesh—at least 1.5 inches (3.8 cm) between sides; or

(3) Rectangular mesh—at least 1 inch (2.5 cm) between the longer sides and 2 inches (5.1 cm) between the shorter sides.

(B) For the entire back panel, i.e., the side of the pot opposite the side that contains the pot entrance, mesh that is at least 2 inches (5.1 cm) between sides.

* * * * *

(d) * * *

(2) South Atlantic EEZ—(i) Sea bass pots. (A) In the South Atlantic EEZ, sea bass pots may not be used or possessed in multiple configurations, that is, two or more pots may not be attached one to another so that their overall dimensions exceed those allowed for an individual sea bass pot. This does not preclude connecting individual pots to a line, such as a “trawl” or trot line.

(B) A sea bass pot must be removed from the water in the South Atlantic EEZ when the quota specified in § 622.42(e)(5) is reached. The RA may authorize a grace period of up to 10 days for removal of pots after a closure is in effect based on exigent circumstances which include, but are not limited to, insufficient advance notice of a closure or severe weather. In addition, a person may request that the RA grant such a grace period based on severe personal hardship, such as equipment failure or the vessel operator's health, by providing a letter outlining the nature and circumstances of the severe personal hardship to be received by the RA no later than the effective date of the closure. The RA will advise the requester of the approval or disapproval of the request. After a closure is in effect, a black sea bass may not be retained by a vessel that has a sea bass pot on board.

(ii) Golden crab traps. Rope is the only material allowed to be used for a buoy line or mainline attached to a golden crab trap.

7. In § 622.42, paragraph (e) is revised to read as follows:

§ 622.42 Quotas.

* * * * *

(e) South Atlantic snapper-grouper, excluding wreckfish. The quotas apply to persons who are not subject to the bag limits. (See § 622.39(a)(1) for applicability of the bag limits.) The quotas are in gutted weight, that is, eviscerated but otherwise whole.

(1) Snowy grouper. (i) For the fishing year that commences January 1, 2006—151,000 lb (68,492 kg).

(ii) For the fishing year that commences January 1, 2007—118,000 lb (53,524 kg).

(iii) For the fishing year that commences January 1, 2008, and for subsequent fishing years—84,000 lb (38,102 kg).

(2) Golden tilefish—295,000 lb (133,810 kg).

(3) Greater amberjack—1,169,931 lb (530,672 kg).

(4) Vermilion snapper—1,100,000 lb (498,952 kg).

(5) Black sea bass. (i) For the fishing year that commences June 1, 2006—477,000 lb (216,364 kg).

(ii) For the fishing year that commences June 1, 2007—423,000 lb (191,870 kg).

(iii) For the fishing year that commences June 1, 2008, and for subsequent fishing years—309,000 lb (140,160 kg).

(6) Red porgy—127,000 lb (57,606 kg).

* * * * *

8. In § 622.43, paragraphs (a)(5) and (b)(1) are revised to read as follows:

§ 622.43 Closures.

(a) * * *

(5) South Atlantic greater amberjack, snowy grouper, golden tilefish, vermilion snapper, black sea bass, and red porgy. The appropriate bag limits specified in § 622.39(d)(1) and the possession limits specified in § 622.39(d)(2) apply to all harvest or possession of the applicable species in or from the South Atlantic EEZ, and the sale or purchase of the applicable species taken from the EEZ is prohibited. In addition, the bag and possession limits for the applicable species and the prohibition on sale/purchase apply in the South Atlantic on board a vessel for which a valid Federal commercial or charter vessel/headboat permit for South Atlantic snapper-grouper has been issued, without regard to where such species were harvested.

* * * * *

(b) * * *

(1) The prohibition on sale/purchase during a closure for Gulf reef fish, king and Spanish mackerel, royal red shrimp, or specified snapper-grouper species in paragraphs (a)(1), (a)(3)(iii), (a)(4), or (a)(5) and (a)(6), respectively, of this section does not apply to the indicated species that were harvested, landed ashore, and sold prior to the effective date of the closure and were held in cold storage by a dealer or processor.

* * * * *

9. In § 622.44, paragraphs (c)(2), (c)(3), (c)(4), and (c)(5) are revised to read as follows:

§ 622.44 Commercial trip limits.

* * * * *

(c) * * *

* * * * *

(2) Golden tilefish. (i) Until 75 percent of the fishing year quota specified in § 622.42(e)(2) is reached—4,000 lb (1,814 kg).

(ii) After 75 percent of the fishing year quota specified in § 622.42(e)(2) is reached—300 lb (136 kg). However, if 75 percent of the fishing year quota has not been taken on or before September 1, the trip limit will not be reduced. The Assistant Administrator, by filing a notification of trip limit change with the Office of the Federal Register, will effect a trip limit change specified in this paragraph when the applicable conditions have been taken.

(iii) See § 622.43(a)(5) for the limitations regarding golden tilefish after the fishing year quota is reached.

(3) Snowy grouper. (i) During the 2006 fishing year, until the quota specified in § 622.42(e)(1)(i) is reached—275 lb (125 kg).

(ii) During the 2007 fishing year, until the quota specified in § 622.42(e)(1)(ii) is reached—175 lb (79 kg).

(iii) During the 2008 and subsequent fishing years, until the quota specified in § 622.42(e)(1)(iii) is reached—100 lb (45 kg).

(iv) See § 622.43(a)(5) for the limitations regarding snowy grouper after the fishing year quota is reached.

(4) Red porgy. (i) From May 1 through December 31—120 fish.

(ii) From January 1 through April 30, the seasonal harvest limit specified in § 622.36(b)(5) applies.

(iii) See § 622.43(a)(5) for the limitations regarding red porgy after the fishing year quota is reached.

(5) Greater amberjack. Until the fishing year quota specified in § 622.42(e)(3) is reached, 1,000 lb (454 kg). See § 622.43(a)(5) for the limitations regarding greater amberjack after the fishing year quota is reached.

* * * * *

10. In § 622.45, paragraph (d)(8) is added to read as follows:

§ 622.45 Restrictions on sale/purchase.

* * * * *

(d) * * *

(8) No person may sell or purchase a snowy grouper, golden tilefish, greater amberjack, vermilion snapper, black sea bass, or red porgy harvested from or possessed in the South Atlantic by a vessel for which a valid Federal commercial or charter vessel/headboat permit for South Atlantic snapper-grouper has been issued for the remainder of the fishing year after the applicable commercial quota for that species specified in § 622.42(e) has been reached. The prohibition on sale/purchase during these periods does not apply to such of the applicable species that were harvested, landed ashore, and sold prior to the applicable commercial quota being reached and were held in cold storage by a dealer or processor.

* * * * *

[FR Doc. E6-9028 Filed 6-8-06; 8:45 am]

BILLING CODE 3510-22-S